DEPARTMENT OF JUSTICE

Drug Enforcement Administration

Manufacturer of Controlled Substances Notice of Application

Pursuant to § 1301.33(a) of Title 21 of the Code of Federal Regulations (CFR), this is notice that on February 15, 2007, Wayne Lee Hauge, 24 Railroad Avenue, P.O. Box 276, Ray, North Dakota 58849-0276, made application to the Drug Enforcement Administration (DEA) to be registered as a bulk manufacturer of marihuana (7360), a basic class of controlled substance listed in Schedules I.

The applicant seeks to cultivate marihuana for commercial sale and industrial purposes.

Any other such applicant, and any person who is presently registered with DEA to bulk manufacture marihuana may file comments or objections to the issuance of the proposed registration pursuant to 21 CFR 1301.33(a).

Any such written comments or objections being sent via regular mail should be addressed, in quintuplicate, to the Drug Enforcement Administration, Office of Diversion Control, Federal Register Representative (ODL), Washington, DC 20537; or any being sent via express mail should be sent to Drug Enforcement Administration, Office of Diversion Control, Federal Register Representative (ODL), 2401 Jefferson Davis Highway, Alexandria, Virginia 22301; and must be filed no later than July 31, 2007.

Dated: May 25, 2007.
Joseph T. Rannazzisi,
Deputy Assistant Administrator, Office of Diversion Control, Drug Enforcement Administration.

[FR Doc. E7-10485 Filed 5-31-07; 8:45 am]

BILLING CODE 4410-09-P